DEPARTMENT OF DEFENSE

Department of the Air Force

Notice of Intent To Prepare an Environmental Impact Statement for the KC-46A Third Main Operating Base (MOB 3) Beddown

AGENCY: Air Force Reserve Command, United States Air Force, DoD.

ACTION: Notice of intent.

SUMMARY: The United States Air Force (USAF) is issuing this notice to advise the public of the intent to prepare an Environmental Impact Statement (EIS) for the KC-46A Third Main Operating Base (MOB 3) Beddown. The EIS will assess the potential environmental consequences of various alternatives of the beddown of KC-46A tanker aircraft, associated infrastructure and personnel in support of the MOB 3 mission at existing installations where the Air Force Reserve Command (AFRC) leads a Mobility Air Force mission.

DATES: The USAF intends to hold scoping meetings from 5 p.m. to 8 p.m. in the following communities on the following dates:

1. Westover ARB—12 April 2016, at the Castle of Knights, 1599 Memorial Dr., Chicopee, MA 01020

2. Seymour Johnson AFB—14 April 2016, at the Herman Park Center, 701 East Ash St., Goldsboro, NC 27530

3. Grissom ARB—19 April 2016, at the Milestone Event Center, 1458 North Liberator Rd., Peru, IN 46970

4. Tinker AFB—21 April 2016, at the Sheraton Midwest City Hotel and Reed Conference Center, 57050 Will Rodgers Rd., Midwest City, OK 73110

ADDRESSES: The project Web site (www.kc-46a-beddown.com) provides more information on the EIS and can be used to submit scoping comments. Scoping comments may also be submitted to Mr. Hamid Kamalpour, U.S. Air Force, AFCEC/CZN, 2261 Hughes Ave., Ste 155, Lackland AFB, Texas 78236-9853.

As a convenience for comments submitted by mail, a comment form is available for download on the Web site. Comments will be accepted at any time during the environmental impact analysis process. However, to ensure the USAF has sufficient time to consider public input in the preparation of the Draft EIS, scoping comments should be submitted to the Web site or the address listed below by 25 April 2016.

SUPPLEMENTARY INFORMATION: The MOB 3 mission includes 12 KC-46A aircraft in one squadron. The KC-46A aircraft will replace the aging tanker fleet and would continue supporting the mission of providing worldwide refueling, cargo, and aeromedical evacuation support. The proposed basing alternatives for MOB 3 mission include: Seymour Johnson Air Force Base (AFB), Grissom Air Reserve Base (ARB), Tinker AFB, and Westover ARB. Along with the No Action Alternative, all four bases will be evaluated as alternatives in the EIS.

Scoping and Agency Coordination: To effectively define the full range of issues to be evaluated in the EIS, the USAF will determine the scope of the analysis by soliciting comments from interested local, state and federal elected officials and agencies, as well as interested members of the public and others. Implementation of the KC-46A MOB 3 mission at Tinker AFB in Oklahoma would have the potential to affect floodplains and/or wetlands. Consistent with the requirements and objectives of Executive Order (EO) 11990, “Protection of Wetlands,” state and federal regulatory agencies with special expertise in wetlands and floodplains will be contacted to request comment. Consistent with EO 11988 and EO 11990, this NOI initiates early public review of the alternatives, including implementation of the KC-46A MOB 3 mission at Tinker AFB in Oklahoma which has the potential to affect wetlands and/or floodplains. Scoping meetings will be held in the local communities near the alternative basing locations. The scheduled dates, times, locations, and addresses for the scoping meetings will also be published in local media a minimum of 15 days prior to the scoping meetings.

Henry Williams,
Acting Air Force Federal Register Liaison Officer.

[FR Doc. 2016-06520 Filed 3-22-16; 8:45 am]

BILLING CODE 5001-10-P